NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 5, 2013. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food Safety and Inspection Service (N1-462-13-1, 12 items, 11 temporary items). Records related to meat and poultry investigations and violations, including correspondence, reports, and administrative case files. Proposed for permanent retention are reports of cases involving precedent-setting investigations or violations.

2. Department of Agriculture, Forest Service (N1-95-12-1, 19 items, 10 temporary items). Study plans related to research and development. Proposed for permanent retention are periodic reports summarizing the results of studies.

3. Department of Agriculture, Forest Service (N1-95-12-3, 13 items, 12 temporary items). Raw data related to research studies. Proposed for permanent retention are periodic reports summarizing the results of studies.

4. Department of Agriculture, Forest Service (N1-95-12-4, 46 items, 30 temporary items). Records related to research and development, including grants, agreements, program management, and research programs. Proposed for permanent retention are research reviews, records of experimental forests and natural research areas, and research policy records.

5. Department of Agriculture, Forest Service (N1-95-12-5, 8 items, 6 temporary items). Research and development program records, including statistical reports and records related to data management and archival activities, problem analysis, program formulation, and research work units. Proposed for permanent retention are a research data archive and correspondence regarding emerging research areas.

6. Department of Health and Human Services, Agency for Healthcare Research and Quality (DAA-0510-2013-0003, 1 item, 1 temporary item). Data use agreements for electronic information systems related to quality of patient care and culture of safety in healthcare facilities.

7. Department of Health and Human Services, Office of the Assistant Secretary for Health (DAA-0514-2013-0001, 9 items, 6 temporary items). Records related to discretionary grant programs, including announcement and application records, case files, and final reports. Proposed for permanent retention are selected final reports pertaining to family planning and adolescent pregnancy prevention activities.

8. Department of Homeland Security, U.S. Coast Guard (N1-26-11-1, 1 item, 1 temporary item). Records of vessel security planning.

9. Department of Homeland Security, U.S. Coast Guard (N1-26-11-3, 2 items, 2 temporary items). Personnel payroll processing records.

10. Department of Homeland Security, U.S. Coast Guard (DAA-0026-2013-0001, 1 item, 1 temporary item). Records of real property case files, including white papers and inspection reports.

11. Department of State, Bureau of Diplomatic Security (DAA-0059-2013-0004, 1 item, 1 temporary item). Master files of an electronic information system used to manage and track security equipment from procurement to retirement or surplus.

12. Department of State, Bureau of Administration (DAA-0059-2013-0005, 1 item, 1 temporary item). Master files of an electronic information system used to manage parking and transit matters at department facilities.

13. Department of Transportation, National Highway Traffic Safety Administration (N1-416-11-8, 2 items, 1 temporary item). Development records of a publication on pedestrian safety for law enforcement personnel. Proposed for permanent retention is the publication.

14. Department of the Treasury, Internal Revenue Service (DAA-0058-2013-0007, 1 item, 1 temporary item). Forms used to report suspected tax fraud activities.

15. Department of the Treasury, Internal Revenue Service (DAA-0058-2013-0010, 1 item, 1 temporary item). Master files of an electronic information system used to prevent and document data breach incidents.

16. Department of the Treasury, Internal Revenue Service (DAA-0058-2013-0011, 3 items, 3 temporary items). Records include registration data and correspondence used to monitor foreign financial institutions' compliance activities.

17. Department of the Treasury, Internal Revenue Service (DAA-0058-2013-0012, 2 items, 2 temporary items). Inputs and outputs of an electronic information system used to track taxpayer correspondence relating to account issues for closed appeals cases.

18. National Archives and Records Administration, Research Services (N2-306-13-1, 2 items, 2 temporary items). Records of the United States Information Agency including correspondence logs and a routine personnel grievance case file. These records were accessioned to the National Archives but lack sufficient historical value to warrant continued preservation.

19. Occupational Safety and Health Review Commission, Office of the Executive Secretary (N1-455-11-2, 1 item, 1 temporary item). Master files of an electronic information system used to track case files.

Dated: May 28, 2013.
Paul M. Wester, Jr.,
Chief Records Officer for the U.S. Government.

[FR Doc. 2013-13162 Filed 6-3-13; 8:45 am]

BILLING CODE 7515-01-P